DEPARTMENT OF DEFENSE

Department of the Air Force

[Docket ID: USAF-2010-0005]

Privacy Act of 1974; System of Records

AGENCY: Department of the Air Force, DoD.

ACTION: Notice to alter a system of records.

SUMMARY: The Department of the Air Force proposes to alter a system of records to its inventory of record systems subject to the Privacy Act of 1974 (5 U.S.C. 552a), as amended.

DATES: The changes will be effective on March 26, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Ben Swilley at (703) 696-6172.

SUPPLEMENTARY INFORMATION: The Department of the Air Force systems of records notices subject to the Privacy Act of 1974, (5 U.S.C. 552a), as amended, have been published in the Federal Register and are available from the contact under FOR FURTHER INFORMATION CONTACT.

The proposed system report, as required by 5 U.S.C. 552a(r) of the Privacy Act of 1974, as amended, was submitted on February 1, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: February 16, 2010.
Mitchell S. Bryman,
Alternate OSD Federal Register Liaison Officer, Department of Defense.

F044 AETC A

System name:

Drug Abuse Control Case Files (June 11, 1997; 62 FR 31793).

Changes:

* * * * *

System location:

Delete entry and replace with “Personnel Psychological Assessment (PPA), Building 5725, Room 279, 319th Training Squadron, 1550 Wurtsmith Street, Lackland Air Force Base, TX 78236-5605.”

Categories of individuals covered by the system:

Delete entry and replace with “Air Force Active Duty enlisted personnel, Air National Guard and Reserve personnel referred to the drug abuse office.”

Categories of records in the system:

Delete entry and replace with “Name and Social Security Number (SSN); and various letters describing drug abuse information, such as notification of disposition, recommendation for disposition, and drug abuse determination of urinalysis cases.”

Authority for maintenance of the system:

Delete entry and replace with “42 U.S.C. 290dd-2, Confidentiality of Records; Department of Defense Directive 1010.4, Drug and Alcohol Abuse by DoD Personnel; 10 U.S.C. 8013, Secretary of the Air Force; Air Force Instruction 36-3208, Administration Separation of Airman; and E.O. 9397 (SSN), as amended.”

Purpose(s):

Delete entry and replace with “To enable the discharge authority, Personnel Psychological Assessment (PPA) psychologist and squadron commanders to determine an individual's extent of any prior drug abuse and make determinations of discharge or retention in the Air Force.”

* * * * *

System manager(s) and address:

Delete entry and replace with “Commander, 319th Training Squadron, 1550 Wurtsmith Street, Suite 1, Lackland Air Force Base, TX 78236-5605.”

Notification procedure:

Delete entry and replace with “Individuals seeking to determine whether this system of records contains information on themselves should address inquiries to the Commander, 319th Training Squadron, 1550 Wurtsmith Street, Suite 1, Lackland Air Force Base, TX 78236-5605.

For verification purposes, individual should provide their full name, Social Security Number (SSN), any details, which may assist in locating records, and their signature. In addition, the requester must provide a notarized statement or an unsworn declaration made in accordance with 28 U.S.C. 1746, in the following format:

If executed outside the United States:

I declare (or certify, verify, or state) under penalty of perjury under the laws of the United States of America that the foregoing is true and correct. Executed on (date). (Signature).

If executed within the United States, its territories, possessions, or commonwealths:

I declare (or certify, verify, or state) under penalty of perjury that the foregoing is true and correct. Executed on (date). (Signature).”

Record access procedures:

Delete entry and replace with “Individuals seeking to access records about themselves contained in this system should address requests to the Commander, 319th Training Squadron, 1550 Wurtsmith Street, Suite 1, Lackland Air Force Base, TX 78236-5605.

For verification purposes, individual should provide their full name, Social Security Number (SSN), any details, which may assist in locating records, and their signature. In addition, the requester must provide a notarized statement or an unsworn declaration made in accordance with 28 U.S.C. 1746, in the following format:

If executed outside the United States:

I declare (or certify, verify, or state) under penalty of perjury under the laws of the United State of America that the foregoing is true and correct. Executed on (date). (Signature).

If executed within the United States, its territories, possessions, or commonwealths:

I declare (or certify, verify, or state) under penalty of perjury that the foregoing is true and correct. Executed on (date). (Signature).”

* * * * *

F044 AETC A

System name:

Drug Abuse Control Case Files.

System location:

Personnel Psychological Assessment (PPA), Building 5725, Room 279, 319th Training Squadron, 1550 Wurtsmith Street, Lackland Air Force Base, TX 78236-5605.

Categories of individuals covered by the system:

Air Force Active Duty enlisted personnel, Air National Guard and Reserve personnel referred to the drug abuse office.

Categories of records in the system:

Name and Social Security Number (SSN); and various letters describing drug abuse information, such as notification of disposition, recommendation for disposition, and drug abuse determination of urinalysis cases.

Authority for maintenance of the system:

42 U.S.C. 290dd-2, Confidentiality of Records; Department of Defense Directive 1010.4, Drug and Alcohol Abuse by DoD Personnel; 10 U.S.C. 8013, Secretary of the Air Force; Air Force Instruction 36-3208, Administration Separation of Airman; and E.O. 9397 (SSN), as amended.

Purpose(s):

To enable the discharge authority, Personnel Psychological Assessment (PPA) psychologist and squadron commanders to determine an individual's extent of prior drug abuse and make determinations of discharge or retention in the Air Force.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' published at the beginning of the Air Force's compilation of systems of records notices apply to this system, except as stipulated in the `Note' below.

Note: Records in this system which reveal the identity, diagnosis, prognosis, or treatment of any patient or activity relating to substance abuse education, prevention, training, treatment, rehabilitation, or research, which is conducted, regulated, or directly or indirectly assisted by any department or agency of the United States shall, except as provided in 42 U.S.C. 290dd-2, be confidential and be disclosed only for the purposes and under the circumstances expressly authorized under 42 U.S.C. 290dd-2, Records of identity, diagnosis, prognosis or treatment of any client/patient, irrespective of whether or when he/she ceases to be a client/patient, maintained in connection with the performance of any alcohol/drug abuse, family advocacy, AIDS, or sickle cell prevention and treatment function conducted, requested, or directly or indirectly assisted by any department or agency of the United States, shall, except as provided herein, be confidential and be disclosed only for the purposes and under the circumstances expressly authorized in 42 U.S.C. 290dd-2. These statutes take precedence over the Privacy Act of 1974 in regard to accessibility of such records except to the individual to whom the record pertains.

Policies and practices for storing, retrieving, accessing, retaining, and disposing of records in the system:

Storage:

Maintained in file folders.

Retrievability:

Retrieved by name.

Safeguards:

Records are accessed by individuals responsible for servicing the record system in performance of their official duties and by authorized personnel who are properly screened and cleared for need-to-know. Records are stored in locked rooms and cabinets.

Retention and disposal:

Records are retained in office files for one year after annual cutoff, and then destroyed by tearing into pieces, shredding, pulping, macerating, or burning.

System manager(s) and address:

Commander, 319th Training Squadron, 1550 Wurtsmith Street, Suite 1, Lackland Air Force Base, TX 78236-5605.

Notification procedure:

Individuals seeking to determine whether this system of records contains information on themselves should address inquiries to the Commander, 319th Training Squadron, 1550 Wurtsmith Street, Suite 1, Lackland Air Force Base, TX 78236-5605.

For verification purposes, individual should provide their full name, Social Security Number (SSN), any details, which may assist in locating records, and their signature. In addition, the requester must provide a notarized statement or an unsworn declaration made in accordance with 28 U.S.C. 1746, in the following format:

If executed outside the United States:

I declare (or certify, verify, or state) under penalty of perjury under the laws of the United States of America that the foregoing is true and correct. Executed on (date). (Signature).

If executed within the United States, its territories, possessions, or commonwealths:

I declare (or certify, verify, or state) under penalty of perjury that the foregoing is true and correct. Executed on (date). (Signature).

Record access procedures:

Individuals seeking to access records about themselves contained in this system should address requests to the Commander, 319th Training Squadron, 1550 Wurtsmith Street, Suite 1, Lackland Air Force Base, TX 78236-5605.

For verification purposes, individual should provide their full name, Social Security Number (SSN), any details, which may assist in locating records, and their signature. In addition, the requester must provide a notarized statement or an unsworn declaration made in accordance with 28 U.S.C. 1746, in the following format:

If executed outside the United States:

I declare (or certify, verify, or state) under penalty of perjury under the laws of the United States of America that the foregoing is true and correct. Executed on (date). (Signature).

If executed within the United States, its territories, possessions, or commonwealths:

I declare (or certify, verify, or state) under penalty of perjury that the foregoing is true and correct. Executed on (date). (Signature).

Contesting record procedures:

The Air Force rules for accessing records, and for contesting contents and appealing initial agency determinations are published in Air Force Instruction 37-132; 32 CFR part 806b; or may be obtained from the system manager.

Record source categories:

Information obtained from squadron commanders, base surgeons, classification interviewers, medical institutions and from source documents such as reports.

Exemptions claimed for the system:

None.

[FR Doc. 2010-3669 Filed 2-23-10; 8:45 am]

BILLING CODE 5001-06-P